OFFICE OF PERSONNEL MANAGEMENT

Privacy Act of 1974: Consolidate, Update, Amend and Terminate System of Records

AGENCY: U.S. Office of Personnel Management (OPM).

ACTION: Consolidate, update, amend, and terminate system of records.

SUMMARY: OPM proposes to consolidate the Security Officer Control Files (Internal-3) with the Adjudication Officer Control Files (Internal-16), and then update and amend the Adjudication Officer Control Files (Internal-16) contained in its inventory of record systems subject to the Privacy Act of 1974 (5 U.S.C. 552a), as amended.

DATES: These changes will become effective without further notice forty (40) calendar days from the date of this publication, unless we receive comments that result in a contrary determination.

ADDRESSES: Send written comments to the Program Manager for the Freedom of Information and Privacy Act office, Federal Investigative Services, U.S. Office of Personnel Management, 1137 Branchton Road, PO Box 618, Boyers, Pennsylvania 16018.

FOR FURTHER INFORMATION CONTACT: Program Manager, Freedom of Information and Privacy Act office, FISSORNComments@opm.gov.

SUPPLEMENTARY INFORMATION: In accordance with the Privacy Act of 1974, 5 U.S.C. 552a, the Office of Personnel Management, Federal Investigative Services (OPM-FIS) proposes to consolidate the Security Officer Control Files (Internal-3) with the Adjudication Officer Control Files (Internal-16), and then update and amend the Adjudication Officer Control Files (Internal-16) contained in its inventory of record systems. Since the Security Officer Control Files (Internal-3) will be consolidated with the Adjudication Officer Control Files (Internal-16), we propose to terminate the Security Officer Control Files (Internal-3).

The specific changes to the record system being amended are set forth below. The proposed amendment is within the purview of subsection (r) of the Privacy Act of 1974 (5 U.S.C. 552a), as amended, which requires the submission of new or altered systems reports.

OPM/Internal-16

System name:

Adjudications Officer Control Files

System location:

Delete entry and replace with “U.S. Office of Personnel Management (OPM), Federal Investigative Services (FIS), 131 Rebecca Lane, Slippery Rock, PA 16057”

Add “Facilities, Security, and Contracting (FSC)—Personnel Security; 1137 Branchton Road, Boyers, Pennsylvania 16018.”

Categories of individuals covered by the system:

Replace “This system contains records on individuals, other than OPM employees: (1) Who work on an OPM-Investigations Service (IS) contract; (2) who need to access IS facilities or use IS equipment; or (3) about whom OPM—IS has provided a suitability or security adjudication advisory opinion at the request of another Federal agency's adjudication or security office.

. . .” with “This system contains records on active, inactive, and pending OPM employees and employees of OPM contractors. This system also contains records on individuals who need to access OPM facilities or use OPM systems.”

Categories of records in the system:

Delete entry and replace with: “The records in the system may contain the following: Personally identifiable information such as name, date and place of birth, Social Security Number, citizenship status, grade, organization, employer(s), position sensitivity and public trust classification, initial investigation and reinvestigation history; and access authorization history; the formal request(s) and justification(s) for access authorization processing; security forms, fingerprint cards, and acknowledgments completed by the individual for both the initial investigation and reinvestigation; results of pre-employment checks (if required); Personnel Identification Verification (PIV) sponsorship and tracking information; report of investigation provided by an agency which has previously conducted an investigation of the individual for employment or security clearance purposes; approvals for classified visits; photographs; foreign travel documents; personnel security interview transcripts or summaries of the interviews, and evaluations of the interviews; reports of hospitalization or treatment for a mental condition or substance abuse, including information provided by an Employee Assistance Program provider; reports of OPM-sponsored mental evaluations conducted by competent medical authorities; public record information to include law enforcement, financial, divorce, bankruptcy, name change and other court information or reports and copies of information appearing in the media; information concerning citizenship status, foreign contacts, and spouse and/or individual(s) with whom the individual resides; administrative review processing data; information related to an individual's work performance on an OPM contract, documents concerning an individual's conduct, security, and policy violations; written evaluations of reported derogatory information; credit check results; copies of correspondence to and from the individual concerning the items above and copies of inter- and intra-agency correspondence concerning the items above; and any other material relevant to the individual's OPM access, suitability, fitness, or security determination or processing.”

Add “Note: Individuals must request access to background investigations in accordance with the requirements in the governing System of Records Notice. Requests for background investigations maintained in the Adjudications Officer Control Files will be denied.”

Authority for maintenance of the system:

Add “13488.”

Purpose(s):

Delete entry and replace with “OPM Adjudications Officers, Contract Administrators, and Personnel Security staff, or designees, use these records to make suitability, fitness, or security determinations, PIV access determinations, determinations concerning security clearances for access to classified or National Security information, determinations regarding the need and eligibility to use OPM facilities or systems, assign position sensitivity to OPM employees and contractors, and to document an individual's performance and conduct on an OPM contract or employment.”

Routine uses of records maintained in the system, including categories of users and the purposes of such uses:

Delete “Information in these records may be used:” and replace with “In addition to those disclosures generally permitted under 5 U.S.C. 552a(b) of the Privacy Act, all or a portion of the records of information contained in this system may be disclosed outside OPM as a routine use pursuant to 5 U.S.C. 552a(b)(3). The routine uses listed below are specific to this system of records only:”

Re-label the routine uses 1, 2, 3, 4, 5, 6, 7, 8, 9, 10, 11 to a, b, c, d, e, f, g, h, i, j, k respectively.

Add: “l. To appropriate agencies, entities, and persons when (1) OPM suspects or has confirmed that the security or confidentiality of the information in a system of records has been compromised; (2) OPM has determined that as a result of the suspected or confirmed compromise there is a risk of harm to economic or property interests, identity theft or fraud, or harm to the security or integrity of this system or other systems or programs (whether maintained by OPM or another agency or entity) that rely on the compromised information; and (3) the disclosure made to such agencies, entities, and persons is reasonably necessary to assist in connection with the OPM's efforts to respond to the suspected or confirmed compromise and prevent, minimize, or remedy such harm.”

Add: “m. To the State unemployment compensation office upon their request in order to adjudicate a claim for unemployment compensation benefits when the claim for benefits is made as the result of a qualifications, suitability, fitness or security determination.”

Add: “n. To any source from which information is requested in the course of obtaining information to make a suitability, security, or access determination, to the extent necessary to identify the individual, inform the source of the nature and purpose of the investigation, and to identify the type of information requested.”

Add: “o. To a competent medical authority who, under a formal agreement for payment of services with the OPM personnel security element, conducts evaluations under the Adjudicative Guidelines for Determining Eligibility for Access to Classified Information, to determine whether an individual has a mental condition of a nature which causes, or may cause, a significant defect in judgment or reliability.”

Safeguards:

Replace “OPM stores the file folders in locked, metal file cabinets in a secured room. OPM restricts access to the records on the databases to employees who have the appropriate clearance and need-to-know.” with “OPM stores the hardcopy files in locked, metal file cabinets in a secured room or as digital images on the OPM Local Area Network. All employees who have a need to access the information are required to have the appropriate investigation consistent with the risk and sensitivity designation of that position, and the investigation must be favorably adjudicated or an interim access be granted before they are allowed access to the records.”

Retention and disposal:

Delete entry and replace with: “OPM maintains the entire record three (3) years after the individual's employment or contract status with OPM ends, the need to use OPM systems or facilities has terminated, or the Federal agency notifies OPM that the person whose case OPM adjudicated has separated from that agency. Classified Information Nondisclosure Agreements (Standard Form 312) signed by contractors are maintained for 70 years. Classified Information Nondisclosure Agreements (Standard Form 312) signed by federal employees are filed in the Official Personnel Folder (OPF). Contents of the file folders are destroyed by shredding and recycling and computer records are destroyed by electronic erasure.”

System managers and addresses:

Delete entry and replace with: “Associate Director, Federal Investigative Services, U.S. Office of Personnel Management, PO Box 618, 1137 Branchton Road, Boyers, PA 16018-0618”

Add: “Director, Facilities, Security and Contracting, U.S. Office of Personnel Management, 1900 E. Street NW., Washington, DC 20415.”

Notification procedure:

The notification procedures and record access procedures section were merged. Replace current notification procedures and record access procedures section with:

“Specific materials in this system have been exempted from Privacy Act provisions at 5 U.S.C. 552a(c)(3) and (d), regarding accounting of disclosures and access to and amendment of records. The section of this notice titled Systems Exempted from Certain Provisions of the Act indicates the kinds of material exempted and the reasons for exempting them from access.

Individuals wishing to ask if this system of records contains information about them or wishing to request access to their record should determine which category they fit into and write to the following addresses:

Federal Investigative Services maintains records for those who (1) work(ed) in OPM's FSC-Personnel Security, (2) who work(ed) on an OPM-FIS contract, or (3) have or had access to OPM-FIS facilities or OPM-FIS systems. This category of individuals should write to: U.S. Office of Personnel Management, Federal Investigative Services, Freedom of Information and Privacy Act office, PO Box 618, 1137 Branchton Road, Boyers, PA 16018-0618.

Facilities, Security and Contracting maintains records for all other OPM employees or OPM contractors. This category of individuals should write to: U.S. Office of Personnel Management, FOIA Requester Service Center, 1900 E. Street NW., Room 5415, Washington, DC 20415-7900.

Individuals must furnish the following information for their record to be located and identified:

a. Full name, former name, and any other names used.

b. Date and place of birth.

c. Social Security Number.

d. Identify the records being requested, to include any available information regarding the type of record involved.

e. The address to which the record information should be sent.

f. Telephone number. (optional)

g. Handwritten Signature.

In addition, the requester must provide an original notarized statement or an unsworn declaration in accordance with 28 U.S.C. 1746, in the following format: I declare (or certify, verify, or state) under penalty of perjury that the foregoing is true and correct. Executed on (date). (Signature).

Attorneys or other persons acting on behalf of an individual must provide written authorization from that individual for the representative to act on their behalf. The written authorization must include an original notarized statement or an unsworn declaration in accordance with 28 U.S.C. 1746, in the following format: “I declare (or certify, verify, or state) under penalty of perjury that the foregoing is true and correct. Executed on (date). (Signature).”

Individuals requesting access must also comply with OPM's Privacy Act regulations regarding verification of identity and access to records (5 CFR part 297).”

Amendment procedures:

Delete “Specific materials in this system have been exempted from Privacy Act provisions at 5 U.S.C. 552a(d) regarding access to and amendment of records. The section of this notice titled “System Exemptions” indicates the kinds of material exempted and the reasons for exempting them from amendment. Individuals wishing to request amendment of their non-exempt records should write to the Federal Investigations Processing Center and furnish the following information for their record to be located:” and replace with “Individuals wishing to request amendment of their non-exempt records should determine the category they fit into as outlined above in Notification and Record Access Procedures and contact the appropriate office in writing. Individuals must furnish the following information for their record to be located and identified:”

Add: “In addition, the requester must provide an original notarized statement or an unsworn declaration in accordance with 28 U.S.C. 1746, in the following format: I declare (or certify, verify, or state) under penalty of perjury that the foregoing is true and correct. Executed on (date). (Signature).”

Add: “Attorneys or other persons acting on behalf of an individual must provide written authorization from that individual for the representative to act on their behalf. The written authorization must include an original notarized statement or an unsworn declaration in accordance with 28 U.S.C. 1746, in the following format: “I declare (or certify, verify, or state) under penalty of perjury that the foregoing is true and correct. Executed on (date). (Signature).”

Record source categories:

Replace “OPM-IS” with “OPM-FIS” in item 2 and item 3.

Delete item 4 and replace with “4. Employment information maintained by OPM's Director of Personnel or regional personnel offices.”

Add: “6. Federal agencies.”

Add: “7. By personal investigation or written inquiry from sources such as employers, educational institutions, references, neighbors, associates, police departments, courts, credit bureaus, medical records, probation officials, prison officials, newspapers, magazines, periodicals, and other publications.”

Exemptions claimed for the system:

Replace “. . .in 5 U.S.C. 552a(k)(1), (2), (3), (4), (5), (6) or (7) is exempt . . .” with “. . . in 5 U.S.C. 552a(k)(1), (2), (5), or (6) is exempt. . .”

Delete items 3, 4, 7.

U.S. Office of Personnel Management.
Katherine Archuleta,
Director.

[FR Doc. 2014-12043 Filed 5-23-14; 8:45 am]

BILLING CODE 6325-53-P